DEPARTMENT OF COMMERCE

International Trade Administration

[A-570-904]

Certain Activated Carbon From the People's Republic of China: Final Results of Expedited Sunset Review of the Antidumping Duty Order

AGENCY: Import Administration, International Trade Administration, Department of Commerce.

SUMMARY: On March 15, 2012, the Department of Commerce (“the Department”) initiated the first five-year (“sunset”) review of the antidumping duty order on certain activated carbon from the People's Republic of China (“PRC”) pursuant to section 751(c) of the Tariff Act of 1930, as amended (“the Act”). On the basis of a notice of intent to participate and an adequate substantive response filed on behalf of the domestic interested parties, as well as a lack of response from respondent interested parties, the Department conducted an expedited sunset review of the antidumping duty order, pursuant to section 751(c)(3)(B) of the Act and 19 CFR 351.218(e)(1)(ii)(C)(2). As a result of this sunset review, the Department finds that revocation of the antidumping duty order on certain activated carbon from the PRC would be likely to lead to continuation or recurrence of dumping at the levels indicated in the “Final Results of Review” section of this notice.

DATES: Effective Date: June 6, 2012.

FOR FURTHER INFORMATION CONTACT: Bob Palmer, AD/CVD Operations, Import Administration, International Trade Administration, U.S. Department of Commerce, 14th Street and Constitution Avenue NW., Washington, DC 20230; telephone: (202) 482-9068.

SUPPLEMENTARY INFORMATION:

Background

On March 1, 2012, the Department initiated the first sunset review of the antidumping duty order on certain activated carbon from the PRC, pursuant to section 751(c) of the Act and 19 CFR 351.218(c)(2).¹ The Department received a notice of intent to participate from Calgon Carbon Corporation, Norit Americas, Inc., and ADA Carbon Solutions LLC (collectively, “the domestic interested parties”) within the deadline specified in 19 CFR 351.218(d)(1)(i).² The domestic interested parties claimed interested party status under section 771(9)(C) of the Act, as manufacturers of a domestic like product in the United States.

¹ See Initiation of Five-Year (“Sunset”) Review, 77 FR 12562 (March 1, 2012); see also Notice of Antidumping Duty Order: Certain Activated Carbon From the People's Republic of China, 72 FR 20988 (April 27, 2007) (“Order”).

² See Letter from domestic interested parties, re: “Five-Year (“Sunset”) Review of the Antidumping Order on Certain Activated Carbon from the People's Republic of China: Domestic Interested Parties' Intent to Participate,” dated March 15, 2012.

We received a complete substantive response from the domestic interested parties within the 30-day deadline specified in 19 CFR 351.218(d)(3)(i).³ We received no responses from respondent interested parties. As a result, the Department conducted an expedited sunset review of the Order, pursuant to section 751(c)(3)(B) of the Act and 19 CFR 351.218(e)(1)(ii)(C)(2).

³ See Letter from domestic interested parties, re: “Five-Year (“Sunset”) Review of the Antidumping Order on Certain Activated Carbon from the People's Republic of China: Domestic Industry's Substantive Response,” dated March 30, 2012.

Scope of the Order

The merchandise subject to the order is certain activated carbon. Certain activated carbon is a powdered, granular, or pelletized carbon product obtained by “activating” with heat and steam various materials containing carbon, including but not limited to coal (including bituminous, lignite, and anthracite), wood, coconut shells, olive stones, and peat. The thermal and steam treatments remove organic materials and create an internal pore structure in the carbon material. The producer can also use carbon dioxide gas (CO2) in place of steam in this process. The vast majority of the internal porosity developed during the high temperature steam (or CO2 gas) activated process is a direct result of oxidation of a portion of the solid carbon atoms in the raw material, converting them into a gaseous form of carbon.

The scope of the order covers all forms of activated carbon that are activated by steam or CO2, regardless of the raw material, grade, mixture, additives, further washing or post-activation chemical treatment (chemical or water washing, chemical impregnation or other treatment), or product form. Unless specifically excluded, the scope of the order covers all physical forms of certain activated carbon, including powdered activated carbon (“PAC”), granular activated carbon (“GAC”), and pelletized activated carbon.

Excluded from the scope of the order are chemically activated carbons. The carbon-based raw material used in the chemical activation process is treated with a strong chemical agent, including but not limited to phosphoric acid, zinc chloride, sulfuric acid or potassium hydroxide, that dehydrates molecules in the raw material, and results in the formation of water that is removed from the raw material by moderate heat treatment. The activated carbon created by chemical activation has internal porosity developed primarily due to the action of the chemical dehydration agent. Chemically activated carbons are typically used to activate raw materials with a lignocellulosic component such as cellulose, including wood, sawdust, paper mill waste and peat.

To the extent that an imported activated carbon product is a blend of steam and chemically activated carbons, products containing 50 percent or more steam (or CO2 gas) activated carbons are within the scope, and those containing more than 50 percent chemically activated carbons are outside the scope. This exclusion language regarding blended material applies only to mixtures of steam and chemically activated carbons.

Also excluded from the scope are reactivated carbons. Reactivated carbons are previously used activated carbons that have had adsorbed materials removed from their pore structure after use through the application of heat, steam and/or chemicals.

Also excluded from the scope is activated carbon cloth. Activated carbon cloth is a woven textile fabric made of or containing activated carbon fibers. It is used in masks and filters and clothing of various types where a woven format is required.

Any activated carbon meeting the physical description of subject merchandise provided above that is not expressly excluded from the scope is included within the scope. The products subject to the order are currently classifiable under the Harmonized Tariff Schedule of the United States (“HTSUS”) subheading 3802.10.00. Although the HTSUS subheading is provided for convenience and customs purposes, the written description of the scope of the order is dispositive.

Analysis of Comments Received

All issues raised in this review are addressed in the “Issues and Decision Memorandum for the Expedited Sunset Review of the Antidumping Duty Order on Certain Activated Carbon from the People's Republic of China” (“Decision Memorandum”) from Christian Marsh, Deputy Assistant Secretary for Antidumping and Countervailing Duty Operations, to Paul Piquado, Assistant Secretary for Import Administration, dated concurrently with and hereby adopted by this notice. The issues discussed in the Decision Memorandum include the likelihood of continuation or recurrence of dumping and the magnitude of the margins likely to prevail if the order was to be revoked. Parties may find a complete discussion of all issues raised in the review and the corresponding recommendations in this public memorandum which is on file electronically via Import Administration's Antidumping and Countervailing Duty Centralized Electronic Services System (“IA ACCESS”). Access to IA ACCESS is available in the Central Records Unit room 7046 of the main Commerce building. In addition, a complete version of the Decision Memorandum can be access directly on the Web at http://ia.ita.doc.gov/frn. The signed Decision Memorandum and the electronic versions of the Decision Memorandum are identical in content.

Final Results of Review

We determine that revocation of the Order would be likely to lead to continuation or recurrence of dumping at the following weighted-average percentage margins:

Exporter | Weight-averaged dumping margins (%)
Beijing Pacific Activated Carbon Products Co., Ltd | 67.14
Calgon Carbon Tianjin Co., Ltd | 69.54
Datong Juqiang Activated Carbon Co., Ltd | 67.14
Datong Locomotive Coal & Chemicals Co., Ltd | 67.14
Datong Municipal Yunguang Activated Carbon Co., Ltd | 67.14
Datong Yunguang Chemicals Plant | 67.14
Hebei Foreign Trade and Advertising Corporation | 67.14
Jacobi Carbons AB | 61.95
Jilin Bright Future Chemicals Company, Ltd | 228.11
Jilin Province Bright Future Industry and Commerce Co., Ltd | 228.11
Ningxia Guanghua Cherishmet Activated Carbon Co., Ltd | 67.14
Ningxia Huahui Activated Carbon Co., Ltd | 67.14
Ningxia Mineral & Chemical Limited | 67.14
Shanxi DMD Corporation | 67.14
Shanxi Industry Technology Trading Co., Ltd | 67.14
Shanxi Newtime Co., Ltd | 67.14
Shanxi Qixian Foreign Trade Corporation | 67.14
Shanxi Sincere Industrial Co., Ltd | 67.14
Shanxi Xuanzhong Chemical Industry Co., Ltd | 67.14
Tangshan Solid Carbon Co., Ltd | 67.14
Tianjin Maijin Industries Co., Ltd | 67.14
United Manufacturing International (Beijing) Ltd | 67.14
Xi'an Shuntong International Trade & Industrials Co., Ltd | 67.14
PRC-Wide Rate | 228.11

Notice Regarding Administrative Protective Order (“APO”)

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 771(i)(1) of the Act.

Dated: May 25, 2012.
Paul Piquado,
Assistant Secretary for Import Administration.

[FR Doc. 2012-13379 Filed 6-5-12; 8:45 am]

BILLING CODE 3510-DS-P